DEPARTMENT OF THE INTERIOR

Bureau of Land Management

[LLMT921000-13-L13200000-EL0000-P; NDM 105349]

Notice of Invitation; Coal Exploration License Application NDM 105349, ND

AGENCY: Bureau of Land Management, Interior.

ACTION: Notice.

SUMMARY: Members of the public are invited to participate with BNI Coal Ltd. on a pro rata cost sharing basis in a program for the exploration of coal deposits owned by the United States of America in lands located in Oliver County, North Dakota, encompassing 480 acres.

DATES: Any party seeking to participate in this exploration program must send written notice to both the Bureau of Land Management (BLM) and BNI Coal Ltd. as provided in the ADDRESSES section below no later than July 22, 2013 or 10 calendar days after the last publication of this Notice in the Bismarck Tribune newspaper, whichever is later. This Notice will be published once a week for 2 consecutive weeks in the Bismarck Tribune, Bismarck, North Dakota. Such written notice must refer to serial number NDM 105349.

ADDRESSES: The proposed exploration license and plan are available for review from 9 a.m. to 4 p.m., Monday through Friday, in the public room at the BLM Montana State Office, 5001 Southgate Drive, Billings, Montana.

A written notice to participate in the exploration license should be sent to the State Director, BLM Montana State Office, 5001 Southgate Drive, Billings, MT 59101-4669 and BNI Coal, 2360 35th Ave. SW., Center, ND 58530.

FOR FURTHER INFORMATION CONTACT: Anne Allen by telephone at 406-896-5082 or by email at amallen@blm.gov; or Kym Dowdle by telephone at 406-896-5046 or by email at kdowdle@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The exploration activities will be performed pursuant to the Mineral Leasing Act of 1920, as amended, 30 U.S.C. 201(b), and to the regulations at 43 CFR part 3410. The purpose of the exploration program is to gain additional geologic knowledge of the coal underlying the exploration area for the purpose of assessing the coal resources. The exploration program is fully described and will be conducted pursuant to an exploration license and plan approved by the BLM. The exploration plan may be modified to accommodate the legitimate exploration needs of persons seeking to participate.

The lands to be explored for coal deposits in exploration license NDM 105349 are described as follows:

Fifth Principal Meridian, North Dakota

T. 142 N., R. 84 W., Sec. 20, NE¼ and W½.

The area described contains 480 acres.

The Federal coal within the lands described for exploration license NDM 105349 is currently unleased for development of Federal coal reserves.

Phillip C. Perlewitz,
Chief, Branch of Solid Minerals.

[FR Doc. 2013-14637 Filed 6-19-13; 8:45 am]

BILLING CODE 4310-DN-P